DEPARTMENT OF ENERGY

Federal Energy Regulatory Commission

[Project No. 12737-001]

Gathright Hydroelectric Project; Notice of Intent To File License Application, Filing of Pre-Application Document, and Approval of Use of the Traditional Licensing Process

April 18, 2008.

a. Type of Filing: Notice of Intent to File License Application and Request to Use the Traditional Licensing Process.

b. Project No.: 12737-001.

c. Date Filed: December 27, 2007.

d. Submitted By: Hydro Matrix Limited Partnership.

e. Name of Project: Gathright Hydroelectric Project.

f. Location: The project would be located at the existing Corps of Engineer's Gathright Dam on the Jackson River in Alleghany County, Virginia.

g. Filed Pursuant to: 18 CFR 5.3 of the Commission's regulations.

h. Applicant Contact: Mr. James B. Price, Hydro Matrix Limited Partnership, P.O. Box 903, Gatlinburg, TN 37738, (865) 436-0402.

i. FERC Contact: Michael Spencer, (202) 502-6093 or michael.spencer@ferc.gov.

j. Hydro Matrix Limited Partnership filed its request to use the Traditional Licensing Process on December 27, 2007. Hydro Matrix Limited Partnership filed public notice of its request on January 15, 2008. In a letter dated February 13, 2008, the Director of the Office of Energy Projects approved Hydro Matrix Limited Partnership's request to use the Traditional Licensing Process.

k. With this notice, we are initiating informal consultation with: (a) The U.S. Fish and Wildlife Service under section 7 of the Endangered Species Act; and (b) the Virginia State Historic Preservation Officer, as required by section 106, National Historical Preservation Act, and the implementing regulations of the Advisory Council on Historic Preservation at 36 CFR 800.2.

l. Hydro Matrix Limited Partnership filed a Pre-Application Document (PAD; including a proposed process plan and schedule) with the Commission, pursuant to 18 CFR 5.6 of the Commission's regulations.

m. A copy of the PAD is available for review at the Commission in the Public Reference Room or may be viewed on the Commission's Web site (http://www.ferc.gov, using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

Register online at http://ferc.gov/docs-filing/esubscription.asp to be notified via e-mail of new filing and issuances related to this or other pending projects. For assistance, contact FERC Online Support.

Kimberly D. Bose,
Secretary.

[FR Doc. E8-9019 Filed 4-24-08; 8:45 am]

BILLING CODE 6717-01-P